DEPARTMENT OF THE INTERIOR

National Park Service

Draft General Management Plan, Draft Environmental Impact Statement, Fort Stanwix National Monument, NY

AGENCY: National Park Service, Department of the Interior.

ACTION: Notice of Availability of the Draft Environmental Impact Statement for the Draft General Management Plan, Fort Stanwix National Monument, New York.

SUMMARY: Pursuant to the National Environmental Policy Act of 1969, 42 U.S.C. 4332(2)(c) the National Park Service (NPS) announces the availability of a Draft Environmental Impact Statement (DEIS) for the Draft General Management Plan (GMP) for Fort Stanwix National Monument, located in the city of Rome, New York. Consistent with National Park Service rules, regulations, and policies, and the park's mission, the Draft GMP/EIS describes and analyzes two alternatives to guide the management and development of Fort Stanwix National Monument over the next 15 to 20 years. The alternatives incorporate various management prescriptions to ensure protection and enjoyment of the park's resources. The Draft GMP/EIS evaluates potential environmental consequences of implementing the alternatives. Impact topics include cultural and natural resources, visitor experience, park operations, and the socioeconomic environment.

NPS regional planning staff and staff at Fort Stanwix NM collaborated in the development of the Draft GMP/EIS. The main issues that the Draft GMP/EIS has focused on have included protection of cultural resources, visitor services, partnership opportunities, carrying capacity, and the lack of a properly defined boundary. Alternative 1: No Action focuses on basically maintaining current management, protection, and interpretive practices and interpreting the siege of Fort Stanwix in the Revolutionary War. Alternative 2: Action Alternative seeks to broaden interpretation of Fort Stanwix in the context of the Northern Frontier, the Mohawk Valley, and American Indian history; forge new partnerships; upgrade exhibits and waysides; expand the interpretive role of the Marinus Willett Center; and develop an 18th-century cultural landscape treatment plan for the site. After public review of the Draft GMP/EIS, the National Park Service will consider public comments, and a Final GMP/EIS will be prepared. The Final GMP/EIS is scheduled for completion in 2008.

DATES: The National Park Service will accept comments on the Environmental Impact Statement from the public for 60 days from the date the Environmental Protection Agency (EPA) notices the availability of the Draft EIS in its regular Friday Federal Register listing. The National Park Service will hold a public meeting during the public review period to receive comments. Meeting date, time, and location will be announced in local media in advance of the meeting date. Comments on the Draft GMP/EIS must be received no later than 60 days from the date of publication of the EPA listing in the Federal Register.

FURTHER INFORMATION AND ADDRESSES: The Draft General Management Plan/Environmental Impact Statement for Fort Stanwix National Monument will be available for public review and comment online at http://parkplanning.nps.gov. Hard copies may be obtained by contacting Superintendent Debbie Conway, Fort Stanwix National Monument, 112 East Park Street, Rome, NY 13440; phone 315-338-7730. The public is encouraged to comment on the plan via the Internet at http://parkplanning.nps.gov or by mailing comments to Superintendent Debbie Conway, Fort Stanwix National Monument. Before including your address, phone number, e-mail address, or other personal identifying information, you should be aware that your entire comment—including your personal identifying information—may be made publicly available at any time. While you can ask us to withhold your personal identifying information from public review, we cannot guarantee that we will be able to do so. We will always make submissions from organizations or businesses, and from individuals identifying themselves as representatives of or officials of organizations or businesses, available for public inspection in their entirety.

Dated: February 25, 2008.
Dennis R. Reidenbach,
Regional Director Northeast Region, National Park Service.

Editorial Note: This document was received at the Office of the Federal Register on August 20, 2008.

[FR Doc. E8-19622 Filed 8-25-08; 8:45 am]

BILLING CODE 4310-02-P